DEPARTMENT OF VETERANS AFFAIRS

Research Advisory Committee on Gulf War Veterans' Illnesses, Notice of Meeting

The Department of Veterans Affairs (VA) gives notice under the Federal Advisory Committee that the Research Advisory Committee on Gulf War Veterans' Illnesses will meet by teleconference on Tuesday July 7, 2020. The open session will convene at 11:00 a.m. (EST) and end at 3:30 p.m. (EST). The open session will be available to the public by dialing the toll-free telephone number for audio (800) 767-1750; access code 56978# and connecting to Adobe Connect URL for visual: http://va-eerc-ees.adobeconnect.com/racgwvi-july2020/.

The purpose of the Committee is to provide advice and make recommendations to the Secretary of Veterans Affairs on proposed research studies, research plans, and research strategies relating to the health consequences of military service in the Southwest Asia Theater of operations during the Gulf War in 1990-1991.

The Committee will review VA program activities related to Gulf War Veterans' illnesses, current events, and updates on relevant scientific research published since the last Committee meeting. Presentations will include updates on the VA Gulf War Research Program and presentations from subject matter experts in the areas of health effects of serving in the Gulf War.

The meeting will include time reserved for public comments 30 minutes before the meeting closes. Individuals who wish to address the Committee may submit a 1-2 page summary of their comments for inclusion in the official meeting record. Members of the public may submit written statements for the Committee's review or seek additional information by contacting Dr. Karen Block, Designated Federal Officer, at (202) 443-5600, or by email at karen.block@va.gov.

Dated: May 7, 2020.
LaTonya L. Small,
Federal Advisory Committee Management Officer.

[FR Doc. 2020-10155 Filed 5-12-20; 8:45 am]

BILLING CODE P